DEPARTMENT OF AGRICULTURE

Forest Service

Notice of Availability (NOA) Record of Decision (ROD) for the Designation of Energy Corridors on Federal Land in the 11 Western States, Including Proposed Amendments to Selected Land Management Plans

AGENCY: Forest Service, USDA.

ACTION: Notice; correction.

SUMMARY: The Forest Service published a Notice of Availability Record of Decision in the Federal Register of March 24, 2009. The document contained an incorrect Internet address.

FOR FURTHER INFORMATION CONTACT: Glen Parker, Realty Specialist, Lands, 202-205-1196 or Ron Pugh, Planning Specialist, Ecosystem Management Coordination, 202-205-0992. USDA Forest Service, L; (Glen Parker); 1400 Independence Ave., SW., Mailstop Code: 1124; Washington, DC 20050-1124.

Correction

In the Federal Register of March 24, 2009, (73 FR 12306), on page 12307, in the ADDRESSES section, correct the Internet address to read:

ADDRESSES: The ROD is available on the Internet at http://www.corridoreis.anl.gov. Printed copies will be available at one of the involved National Forest supervisor or district ranger offices in the 10 Western States.

Dated: March 26, 2009.
Gloria Manning,
Associate Deputy Chief, National Forest System.

[FR Doc. E9-7376 Filed 4-1-09; 8:45 am]

BILLING CODE 3410-11-P